DEPARTMENT OF COMMERCE

International Trade Administration

[A-427-801, A-428-801, A-475-801, A-588-804, A-412-801]

Ball Bearings and Parts Thereof From France, Germany, Italy, Japan, and the United Kingdom: Preliminary Results of Antidumping Duty Administrative Reviews and Intent To Revoke Order In Part

AGENCY: Import Administration, International Trade Administration, Department of Commerce.

SUMMARY: In response to requests from interested parties, the Department of Commerce (the Department) is conducting administrative reviews of the antidumping duty orders on ball bearings and parts thereof from France, Germany, Italy, Japan, and the United Kingdom. The reviews cover 15 manufacturers/exporters. The period of review is May 1, 2007, through April 30, 2008. We have preliminarily determined that sales have been made below normal value by certain companies subject to these reviews. If these preliminary results are adopted in our final results of administrative reviews, we will instruct U.S. Customs and Border Protection (CBP) to assess antidumping duties on all appropriate entries.

We invite interested parties to comment on these preliminary results. Parties who submit comments in these reviews are requested to submit with each argument (1) a statement of the issue and (2) a brief summary of the argument.

DATES: Effective Date: April 27, 2009.

FOR FURTHER INFORMATION CONTACT: Kristin Case or Richard Rimlinger, AD/CVD Operations, Office 5, Import Administration, International Trade Administration, U.S. Department of Commerce, 14th Street and Constitution Avenue, NW., Washington, DC 20230; telephone: (202) 482-3174 or (202) 482-4477, respectively.

SUPPLEMENTARY INFORMATION:

Background

On May 15, 1989, the Department published the antidumping duty orders on ball bearings from France (54 FR 20902), Germany (54 FR 20900), Italy (54 FR 20903), Japan (54 FR 20904), and the United Kingdom (54 FR 20910) in the Federal Register. On July 1, 2008, in accordance with 19 CFR 351.213(b), we published a notice of initiation of administrative reviews of 38 companies subject to these orders. See Initiation of Antidumping and Countervailing Duty Administrative Reviews and Requests for Revocation in Part, 73 FR 37409 (July 1, 2008).

On January 8, 2009, we extended the due date for the completion of these preliminary results of reviews from January 31, 2009, to April 21, 2009. See Ball Bearings and Parts Thereof from France, Germany, Italy, Japan, and the United Kingdom: Extension of Time Limit for Preliminary Results of Antidumping Duty Administrative Reviews, 74 FR 796 (January 8, 2009). On March 26, 2009, we rescinded the administrative reviews with respect to 23 companies. See Ball Bearings and Parts Thereof from France, Germany, Italy, Japan, and the United Kingdom: Partial Rescission of Antidumping Duty Administrative Reviews, 74 FR 13190 (March 26, 2009).

The period of review is May 1, 2007, through April 30, 2008. The Department is conducting these administrative reviews in accordance with section 751 of the Tariff Act of 1930, as amended (the Act).

Scope of Orders

The products covered by the orders are ball bearings and parts thereof. These products include all antifriction bearings that employ balls as the rolling element. Imports of these products are classified under the following categories: Antifriction balls, ball bearings with integral shafts, ball bearings (including radial ball bearings) and parts thereof, and housed or mounted ball bearing units and parts thereof.

Imports of these products are classified under the following Harmonized Tariff Schedule of the United States (HTSUS) subheadings: 3926.90.45, 4016.93.10, 4016.93.50, 6909.19.50.10, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, and 8803.90.90.

As a result of changes to the HTSUS, effective February 2, 2007, the subject merchandise is also classifiable under the following additional HTSUS item numbers: 8708.30.50.90, 8708.40.75, 8708.50.79.00, 8708.50.89.00, 8708.50.91.50, 8708.50.99.00, 8708.70.60.60, 8708.80.65.90, 8708.93.75.00, 8708.94.75, 8708.95.20.00, 8708.99.55.00, 8708.99.68, 8708.99.81.80.

Although the HTSUS item numbers above are provided for convenience and customs purposes, the written descriptions of the scope of these orders remain dispositive.

The size or precision grade of a bearing does not influence whether the bearing is covered by one of the orders. These orders cover all the subject bearings and parts thereof (inner race, outer race, cage, rollers, balls, seals, shields, etc.) outlined above with certain limitations. With regard to finished parts, all such parts are included in the scope of these orders. For unfinished parts, such parts are included if they have been heat-treated or if heat treatment is not required to be performed on the part. Thus, the only unfinished parts that are not covered by these orders are those that will be subject to heat treatment after importation. The ultimate application of a bearing also does not influence whether the bearing is covered by the orders. Bearings designed for highly specialized applications are not excluded. Any of the subject bearings, regardless of whether they may ultimately be utilized in aircraft, automobiles, or other equipment, are within the scope of these orders.

For a list of scope determinations which pertain to the orders, see the “Memorandum to Laurie Parkhill” regarding scope determinations for the 2007-2008 reviews, dated April 21, 2009, which is on file in the Central Records Unit (CRU) of the main Commerce building, room 1117, in the General Issues record (A-100-001).

Selection of Respondents

Due to the large number of companies in the reviews and the resulting administrative burden to review each company for which a request had been made and not withdrawn, the Department exercised its authority to limit the number of respondents selected for individual examination in these reviews. Where it is not practicable to examine all known exporters/producers of subject merchandise because of the large number of such companies, section 777A(c)(2) of the Act allows the Department to limit its examination to either a sample of exporters, producers, or types of products that is statistically valid, based on the information available at the time of selection, or exporters and producers accounting for the largest volume of subject merchandise from the exporting country that can be reasonably examined.

Accordingly, in June 2008 we requested information concerning the quantity and value of sales to the United States from the 38 exporters/producers for which we had initiated reviews. We received responses from most of the exporters/producers by July 2008. Some of the companies withdrew their requests for review prior to our selection of respondents for individual examination. Based on our analysis of the responses and our available resources, we chose to examine the sales of certain companies. See Memoranda to Laurie Parkhill, dated August 12, 2008, for the detailed analysis of the selection process for each country-specific review.

Subsequently, all selected firms withdrew their requests for review with respect to merchandise from Japan and the United Kingdom. To replace the firms that withdrew their requests for review, we made additional selections. See order-specific Memoranda to Laurie Parkhill, dated October 21, 2008.

Non-Selected Respondents

For responding companies under review of the orders on merchandise from France and Italy that were not individually examined, we have assigned the weighted-average margin of the sole selected respondent in the respective review. Therefore, we have applied, for these preliminary results, the rate of 10.13 percent (France) and 10.94 percent (Italy) to the firms not individually examined in these reviews.

With respect to the responding companies which remain under review and which we did not select for individual examination in the review of the order on subject merchandise from Germany, we have assigned the margin we calculated for Schaeffler KG of 3.32 percent to these firms. There were two other selected respondents, myonic GmbH (myonic) and Gebrueder Reinfurt GmbH & Co., KG (GRW); we are assigning an adverse facts-available rate to myonic and we have calculated a de minimis rate for GRW. Generally we have looked to section 735(c)(5) of the Act, which provides instructions for calculating the all-others rate in an investigation, for guidance when calculating the rate for respondents we did not examine in an administrative review. Section 735(c)(5)(A) of the Act instructs that we are not to calculate an all-others rate using any zero or de minimis margins or any margins based on total facts available. Therefore, we have not included either of the margins we established for myonic or GRW in the determination of the rate for companies not selected for individual examination.

Verification

As provided in section 782(i) of the Act, we have verified information provided by GRW and SKF France S.A./SKF Aerospace France S.A.S. (SKF France) in the administrative reviews of the orders on subject merchandise from Germany and France, respectively, using standard verification procedures including the examination of relevant sales and financial records and the selection and review of original documentation containing relevant information.

We intend to verify information provided by SKF (UK) Limited (SKF UK) and Japanese Aero Engines Corporation (JAEC) in the administrative reviews of the orders on subject merchandise from the United Kingdom and Japan, respectively, after publication of these preliminary results of administrative reviews. Our verification results are, or will be, outlined in the public versions of our verification reports which are, or will be, on file in the CRU, room 1117 of the main Department building.

Use of Facts Otherwise Available

For the reasons discussed below, we determine that the use of adverse facts available (AFA) is appropriate for the preliminary results of reviews with respect to two companies.

A. Use of Facts Available

Section 776(a)(2) of the Act provides that, if an interested party withholds information requested by the administering authority, fails to provide such information by the deadlines for submission of the information and in the form or manner requested, subject to subsections (c)(1) and (e) of section 782 of the Act, significantly impedes a proceeding under this title, or provides such information but the information cannot be verified as provided in section 782(i) of the Act, the administering authority shall use, subject to section 782(d) of the Act, facts otherwise available in reaching the applicable determination. Section 782(d) of the Act provides that, if the administering authority determines that a response to a request for information does not comply with the request, the administering authority shall promptly inform the responding party and, to the extent practicable, provide an opportunity to remedy the deficient submission. If the party fails to remedy the deficiency within the applicable time limits, the Department may disregard, subject to section 782(e) of the Act, all or part of the original and subsequent responses, as appropriate. Section 782(e) of the Act provides that the Department “shall not decline to consider information that is submitted by an interested party and is necessary to the determination but does not meet all the applicable requirements established by the administering authority” if the information is timely, can be verified, and is not so incomplete that it cannot be used, and if the interested party acted to the best of its ability in providing the information. Where all of these conditions are met, the statute requires the Department to use the information if it can do so without undue difficulties.

Two of the companies selected for individual examination, myonic (Germany) and Edwards Ltd./Edwards High Vacuum Int'l Ltd. (Japan) (Edwards Japan), did not respond to our questionnaire other than to provide quantity and value of U.S. sales information. Because these companies did not respond fully to our request, we could not determine whether and to what extent these companies sold subject merchandise at less than normal value using the companies' own data. Moreover, because these companies have failed to provide the information requested and thus have significantly impeded the respective reviews, we find that we must base their margins on the use of facts otherwise available. See section 776(a) of the Act.

B. Application of Adverse Inferences for Facts Available

In applying the facts otherwise available, section 776(b) of the Act provides that, if the administering authority finds that an interested party has failed to cooperate by not acting to the best of its ability to comply with a request for information from the administering authority, in reaching the applicable determination under this title, the administering authority may use an adverse inference in selecting from among the facts otherwise available. See, e.g., Notice of Final Results of Antidumping Duty Administrative Review, and Final Determination to Revoke the Order In Part: Individually Quick Frozen Red Raspberries from Chile, 72 FR 70295, 70297 (December 11, 2007) (Final—Raspberries from Chile), and Notice of Preliminary Determination of Sales at Less Than Fair Value, and Postponement of Final Determination: Certain Circular Welded Carbon-Quality Line Pipe From Mexico, 69 FR 59892, 59896 (October 6, 2004).

Adverse inferences are appropriate “to ensure that the party does not obtain a more favorable result by failing to cooperate than if it had cooperated fully.” See Notice of Preliminary Results of Antidumping Duty Administrative Review, Notice of Partial Rescission of Antidumping Duty Administrative Review, Notice of Intent to Revoke in Part: Certain Individually Quick Frozen Red Raspberries from Chile, 72 FR 44112, 44114 (August 7, 2007) (unchanged in Final—Raspberries from Chile, 72 FR at 70297). Further, “affirmative evidence of bad faith on the part of a respondent is not required before the Department may make an adverse inference.” See Antidumping Duties; Countervailing Duties, 62 FR 27296, 27340 (May 19, 1997). See also Nippon Steel Corp. v. United States, 337 F.3d 1373, 1380-84 (CAFC 2003).

Because the non-responding companies—myonic and Edwards Japan—did not provide requested data concerning their sales of subject merchandise to the United States and foreign like product sold in the comparison markets during the period of review, we determine that they have failed to cooperate by not acting to the best of their ability. See Antifriction Bearings and Parts Thereof From France, et al.: Final Results of Antidumping Duty Administrative Reviews, Rescission of Administrative Reviews in Part, and Determination To Revoke Order in Part, 69 FR 55574 (September 15, 2004) (AFBs 14). Therefore, we conclude that the use of an adverse inference is warranted in applying facts otherwise available to these companies.

C. Selection and Corroboration of Information Used as Facts Available

As facts available with an adverse inference, we have selected the rates of 70.41 percent for myonic and 73.55 percent for Edwards Japan. These rates represent the highest rates calculated in the history of the respective proceedings and are from the respective less-than-fair-value investigations for each country. See Final Determinations of Sales at Less than Fair Value: Antifriction Bearings (Other Than Tapered Roller Bearings) and Parts Thereof From the Federal Republic of Germany, 54 FR 18992, 18997 (May 3, 1989), and Final Determinations of Sales at Less than Fair Value: Antifriction Bearings (Other Than Tapered Roller Bearings) and Parts Thereof From Japan, 54 FR 19101, 19108 (May 3, 1989).

Section 776(c) of the Act provides that the Department shall corroborate, to the extent practicable, secondary information used for facts available by reviewing independent sources reasonably at its disposal. Information from a prior segment of the proceeding constitutes secondary information. See Certain Frozen Warmwater Shrimp from Brazil: Final Results and Partial Rescission of Antidumping Duty Administrative Review, 73 FR 39940 (July 11, 2008). The word “corroborate” means that the Department will satisfy itself that the secondary information to be used has probative value.

To corroborate secondary information, the Department will examine, to the extent practicable, the reliability and relevance of the information used. Unlike other types of information such as input costs or selling expenses, however, there are no independent sources for calculated dumping margins. The only source for margins is administrative determinations. Thus, with respect to an administrative review, if the Department chooses as facts available a calculated dumping margin from a prior segment of the proceeding, it is not necessary to question the reliability of the margin for that time period. See AFBs 14, 69 FR at 55577. With respect to the relevance aspect of corroboration, the Department will consider information reasonably at its disposal as to whether there are circumstances that would render a margin not relevant. Where circumstances indicate that the selected margin is not appropriate as AFA, the Department will disregard the margin and determine an appropriate margin. See Fresh Cut Flowers From Mexico; Final Results of Antidumping Duty Administrative Review, 61 FR 6812, 6814 (February 22, 1996) (the Department disregarded the highest dumping margin as best information available because the margin was based on another company's uncharacteristic business expense resulting in an unusually high margin).

We find that the rates we are using for these preliminary results, 70.41 percent for myonic and 73.55 percent for Edwards Japan, have probative value and, therefore, are appropriate rates for use as AFA. Both rates fell within the range of margins we calculated for companies in the respective country-specific administrative reviews, and there is no information on the record of the reviews that demonstrates that the selected rates are not appropriate AFA rates for the non-responsive firms.

For more detail concerning the selection of the AFA rates, see the country-specific Memoranda to Laurie Parkhill, dated April 21, 2009, regarding corroboration of the respective AFA rates.

Intent To Revoke

On May 30, 2008, GRW requested the revocation from the order on ball bearings and parts thereof from Germany as it pertains to its sales.

Under section 751(d)(1) of the Act, the Department “may revoke, in whole or in part” an antidumping duty order upon completion of a review. Although Congress has not specified the procedures that the Department must follow in revoking an order, the Department has developed a procedure for revocation that is set forth under 19 CFR 351.222. Under 19 CFR 351.222(b)(2), the Department may revoke an antidumping duty order in part if it concludes that (A) an exporter or producer has sold the merchandise at not less than normal value for a period of at least three consecutive years, (B) the exporter or producer has agreed in writing to its immediate reinstatement in the order if the Secretary concludes that the exporter or producer, subsequent to the revocation, sold the subject merchandise at less than normal value, and (C) the continued application of the antidumping duty order is no longer necessary to offset dumping. Section 351.222(b)(3) of the Department's regulations states that, in the case of an exporter that is not the producer of subject merchandise, the Department normally will revoke an order in part under 19 CFR 351.222(b)(2) only with respect to subject merchandise produced or supplied by those companies that supplied the exporter during the time period that formed the basis for revocation.

A request for revocation of an order in part for a company previously found dumping must address three elements. The company requesting the revocation must do so in writing and submit the following statements with the request: (1) The company's certification that it sold the subject merchandise at not less than normal value during the current review period and that, in the future, it will not sell at less than normal value; (2) the company's certification that, during each of the consecutive years forming the basis of the request, it sold the subject merchandise to the United States in commercial quantities; (3) the agreement to reinstatement in the order if the Department concludes that, subsequent to revocation, the company has sold the subject merchandise at less than normal value. See 19 CFR 351.222(e)(1).

We preliminarily determine that GRW's May 30, 2008, request meets all of the criteria under 19 CFR 351.222(e)(1). With regard to the criteria of 19 CFR 351.222(b)(2), our preliminary margin calculations show that GRW sold ball bearings at not less than normal value during the current review period. See Preliminary Results of Reviews section below. In addition, it sold ball bearings at not less than normal value in the two previous administrative reviews in which it was reviewed. See Ball Bearings and Parts Thereof from France, et al.: Final Results of Antidumping Duty Administrative Reviews and Rescission of Review in Part, 72 FR 58053 (October 12, 2007), for the period May 1, 2005, through April 30, 2006, and Ball Bearings and Parts Thereof From France, et al.: Final Results of Antidumping Duty Administrative Reviews and Rescission of Reviews in Part, 73 FR 52823 (September 11, 2008), for the period May 1, 2006, through April 30, 2007. Based on our examination of the sales data submitted by GRW, we preliminarily determine that GRW sold the subject merchandise in the United States in commercial quantities in each of the consecutive years cited by GRW to support its request for revocation. See preliminary results analysis memorandum, dated April 21, 2009, on file in the CRU, room 1117. Thus, we preliminarily find that GRW had zero or de minimis dumping margins for the last three consecutive years and sold in commercial quantities all three years. Also, we preliminarily determine that application of the antidumping duty order to GRW is no longer warranted for the following reasons: (1) The company had zero or de minimis margins for a period of at least three consecutive years; (2) the company has agreed to immediate reinstatement of the order if we find that it has resumed making sales at less than fair value; (3) the continued application of the order is not otherwise necessary to offset dumping.

Therefore, we preliminarily determine that GRW qualifies for revocation from the order on ball bearings and parts thereof from Germany pursuant to 19 CFR 351.222(b)(2) and, thus, we preliminarily determine to revoke the order with respect to ball bearings and parts thereof from Germany exported and/or sold by GRW to the United States.

Export Price and Constructed Export Price

For the price to the United States, we used export price (EP) or constructed export price (CEP) as defined in sections 772(a) and (b) of the Act, as appropriate. Due to the extremely large volume of U.S. transactions that occurred during the period of review and the resulting administrative burden involved in calculating individual margins for all of these transactions, we sampled CEP sales in accordance with section 777A of the Act. When a selected firm made more than 10,000 CEP sales transactions to the United States of merchandise subject to a particular order, we reviewed CEP sales that occurred during sample weeks. We selected one week from each two-month period in the review period, for a total of six weeks, and analyzed each transaction made in those six weeks. The sample weeks are as follows: June 3, 2007-June 9, 2007; July 29, 2007-August 4, 2007; September 23, 2007-September 29, 2007; December 2, 2007-December 8, 2007; February 10, 2008-February 16, 2008; April 13, 2008-April 19, 2008. We reviewed all EP sales transactions the selected respondents made during the period of review.

We calculated EP and CEP based on the packed F.O.B., C.I.F., or delivered price to unaffiliated purchasers in, or for exportation to, the United States. We made deductions, as appropriate, for discounts and rebates. We also made deductions for any movement expenses in accordance with section 772(c)(2)(A) of the Act.

Certain companies received freight revenues or packing revenues from the customer for certain U.S. sales. In Certain Orange Juice from Brazil: Final Results and Partial Rescission of Antidumping Duty Administrative Review, 73 FR 46584 (August 11, 2008) (OJ Brazil), and accompanying Issues and Decision Memorandum at Comment 7, and Polyethylene Retail Carrier Bags from the People's Republic of China: Final Results of Antidumping Duty Administrative Review, 74 FR 6857 (February 11, 2009) (PRC Bags), and accompanying Issues and Decision Memorandum at Comment 6, the Department determined to treat such revenues as an offset to the specific expenses for which they were intended to compensate. Accordingly, we have used these respondents' revenues as an offset to their respective expenses.

Consistent with section 772(d)(1) of the Act, we calculated CEP by deducting selling expenses associated with economic activities occurring in the United States which includes commissions, direct selling expenses, and U.S. repacking expenses. In accordance with section 772(d)(1) of the Act, we also deducted those indirect selling expenses associated with economic activities occurring in the United States and the profit allocated to expenses deducted under section 772(d)(1) of the Act in accordance with sections 772(d)(3) and 772(f) of the Act. In accordance with section 772(f) of the Act, we computed profit based on the total revenues realized on sales in both the U.S. and home markets, less all expenses associated with those sales. We then allocated profit to expenses incurred with respect to U.S. economic activity based on the ratio of total U.S. expenses to total expenses for both the U.S. and home markets. Finally, we made an adjustment for profit allocated to these expenses in accordance with section 772(d)(3) of the Act.

Because SKF and JAEC did not incur short-term U.S. dollar borrowings during the period of review, they based their U.S. short-term interest rates on the Federal Funds Interest Rate for the calculation of their U.S. credit expenses and inventory-carrying costs incurred in the United States. We did not use the U.S. short-term interest rate for these firms. The Federal Funds Interest Rate is the interest rate at which private depository institutions lend balances at the Federal Reserve to other depository institutions. Instead we used the Federal Reserve's weighted-average data for short-term commercial and industrial loans. Consistent with the Department's Policy Bulletin 98.2, Imputed Credit Expenses and Interest Rates, February 23, 1998, if a respondent had no short-term debt in U.S. dollars during the period of review, it is the Department's practice to “use the Federal Reserve's weighted-average data for commercial and industrial loans maturing between one month and one year from the time the loan is made” in order to calculate the U.S. short-term interest percentage rate. See, e.g., Notice of Final Results of Antidumping Duty Administrative Review: Steel Concrete Reinforcing Bars from Latvia, 71 FR 7016 (February 10, 2006), and accompanying Issues and Decision Memorandum at Comment 4. The Federal Reserve maintains these specific data under the title “Federal Reserve Statistical Release” and the subheading “Survey of Terms of Business Lending,” which is posted on the Web site at http://www.federalreserve.gov/releases/e2/. The short-term interest rates for May 7-11, 2007, August 6-10, 2007, November 5-9, 2007, and February 4-8, 2008, were 7.46, 7.22, 6.84, and 5.05 percent, respectively. We added these short-term interest rates and divided the sum by four to calculate the U.S. short-term interest rate of 6.64 percent for the period of review. We used this rate to recalculate SKF's and JAEC's U.S. credit expenses and inventory-carrying costs incurred in the United States.

With respect to subject merchandise to which value was added in the United States prior to sale to unaffiliated U.S. customers, e.g., parts of bearings that were imported by U.S. affiliates of foreign exporters and then further processed into other products which were then sold to unaffiliated parties, we determined that the special rule for merchandise with value added after importation under section 772(e) of the Act applied to all firms that added value in the United States.

Section 772(e) of the Act provides that, when the subject merchandise is imported by an affiliated person and the value added in the United States by the affiliated person is likely to exceed substantially the value of the subject merchandise, we shall determine the CEP for such merchandise using the price of identical or other subject merchandise sold by the exporter or producer to an unaffiliated customer if there is a sufficient quantity of sales to provide a reasonable basis for comparison and we determine that the use of such sales is appropriate. If there is not a sufficient quantity of such sales or if we determine that using the price of identical or other subject merchandise is not appropriate, we may use any other reasonable basis to determine CEP.

To determine whether the value added is likely to exceed substantially the value of the subject merchandise, we estimated the value added based on the difference between the averages of the prices charged to the first unaffiliated purchaser for the merchandise as sold in the United States and the averages of the prices paid for the subject merchandise by the affiliated purchaser. Based on this analysis, we determined that the estimated value added in the United States by the further-manufacturing firms accounted for at least 65 percent of the price charged to the first unaffiliated customer for the merchandise as sold in the United States. See 19 CFR 351.402(c) for an explanation of our practice on this issue. Therefore, we preliminarily determine that the value added is likely to exceed substantially the value of the subject merchandise for SKF France, SKF Industrie S.p.A./Somecat S.p.A. (SKF Italy), Schaeffler KG, JAEC, and Sapporo Precision Inc. (Sapporo). Also, for these firms, we determine that there was a sufficient quantity of sales remaining to provide a reasonable basis for comparison and that the use of these sales is appropriate. For the analysis of the decision not to require further-manufactured data, see the Department's company-specific analysis memoranda dated April 21, 2009. Accordingly, for purposes of determining dumping margins for the sales subject to the special rule, we have used the weighted-average dumping margins calculated on sales of identical or other subject merchandise sold to unaffiliated persons.

On July 4, 2006, the SKF Group acquired Somecat S.p.A. (Somecat) in Italy and SNFA Bearings Ltd. in the United Kingdom (SNFA UK). We had revoked the antidumping duty orders covering ball bearings from Italy and the United Kingdom in part with respect to Somecat and SNFA UK. See Antifriction Bearings (Other Than Tapered Roller Bearings) and Parts Thereof From France, et al.: Final Results of Antidumping Duty Administrative Reviews and Revocation of Orders in Part, 65 FR 49219 (August 11, 2000), and Antifriction Bearings (Other Than Tapered Roller Bearings) and Parts Thereof From France, et al.: Final Results of Antidumping Duty Administrative Reviews and Revocation of Orders in Part, 66 FR 36551 (July 12, 2001). Our revocations covered ball bearings from Italy produced by Somecat and exported by either Somecat or SNFA UK and ball bearings from the United Kingdom produced and exported by SNFA UK. On January 1, 2008, SKF UK purchased the assets of SNFA UK and SKF UK started to export bearings produced by both Somecat and SNFA UK to the United States.

In these administrative reviews for the period May 1, 2007, through April 30, 2008, SKF Italy reported Somecat-produced bearings which SKF UK sold in the United States on or after January 1, 2008; SKF UK reported SNFA UK-produced bearings which SKF UK sold in the United States on or after January 1, 2008. SKF Italy and SKF UK have argued that we should not include in their respective margin calculations sales of Somecat-produced ball bearings or SNFA UK-produced ball bearings which SKF UK sold to U.S. customers during the period of review but which entered the United States before January 1, 2008, on the grounds that entries of such merchandise were not subject to the antidumping duty orders. Because SKF Italy and SKF UK provided data supporting their position, we have excluded Somecat-produced bearings and SNFA UK-produced bearings where the record demonstrates that this merchandise was exported to the United States by either Somecat or SNFA UK prior to January 1, 2008, and thus covered by our revocations for these firms.

There were no other claimed or allowed adjustments to EP or CEP sales by other respondents.

Home-Market Sales

Based on a comparison of the aggregate quantity of home-market and U.S. sales and absent any information that a particular market situation in the exporting country did not permit a proper comparison, we determined that the quantity of foreign like product sold by all respondents in the exporting country was sufficient to permit a proper comparison with the sales of the subject merchandise to the United States, pursuant to section 773(a)(1) of the Act. Each company's quantity of sales in its home market was greater than five percent of its sales to the U.S. market. Therefore, in accordance with section 773(a)(1)(B)(i) of the Act, we based normal value on the prices at which the foreign like product was first sold for consumption in the exporting country in the usual commercial quantities and in the ordinary course of trade and, to the extent practicable, at the same level of trade as the EP or CEP sales.

Due to the extremely large number of home-market transactions that occurred during the period of review and the resulting administrative burden involved in examining all of these transactions, we sampled sales to calculate normal value in accordance with section 777A of the Act. When a selected firm had more than 10,000 home-market sales transactions on a country-specific basis, we used sales in sample months that corresponded to the sample weeks which we selected for U.S. CEP sales, sales in a month prior to the period of review, and sales in the month following the period of review. The sample months were February 2007, June 2007, August 2007, September 2007, December 2007, February 2008, April 2008, and June 2008.

The Department may calculate normal value based on a sale to an affiliated party only if it is satisfied that the price to the affiliated party is comparable to the price at which sales are made to parties not affiliated with the exporter or producer, i.e., sales were made at arm's-length prices. See 19 CFR 351.403(c). We excluded from our analysis sales to affiliated customers for consumption in the home market that we determined not to be arm's-length prices. To test whether these sales were made at arm's-length prices, we compared the prices of sales of comparable merchandise to affiliated and unaffiliated customers, net of all rebates, movement charges, direct selling expenses, and packing. Pursuant to 19 CFR 351.403(c) and in accordance with our practice, when the prices charged to an affiliated party were, on average, between 98 and 102 percent of the prices charged to unaffiliated parties for merchandise comparable to that sold to the affiliated party, we determined that the sales to the affiliated party were at arm's-length prices. See Antidumping Proceedings: Affiliated Party Sales in the Ordinary Course of Trade, 67 FR 69186 (November 15, 2002). We included in our calculation of normal value those sales to affiliated parties that were made at arm's-length prices.

Cost of Production

In accordance with section 773(b) of the Act, we disregarded below-cost sales in the last completed segment for SKF France, SKF Italy, SKF UK, GRW, Schaeffler KG, and The Barden Corporation (UK), Ltd./Schaeffler (U.K.) Ltd. (Barden/Schaeffler UK). Therefore, for the instant reviews, we have reasonable grounds to believe or suspect that sales of the foreign like product under consideration for the determination of normal value in these reviews may have been made at prices below the cost of production (COP), as provided by section 773(b)(2)(A)(ii) of the Act. Pursuant to section 773(b)(1) of the Act, we conducted COP investigations of sales by these firms in the respective home markets.

In accordance with section 773(b)(3) of the Act, we calculated the COP based on the sum of the costs of materials and fabrication employed in producing the foreign like product, the selling, general, and administrative (SG&A) expenses, and all costs and expenses incidental to packing the merchandise. In our COP analysis, we used the home-market sales and COP information provided by each respondent in its questionnaire responses.

After calculating the COP and in accordance with section 773(b)(1) of the Act, we tested whether home-market sales of the foreign like product were made at prices below the COP within an extended period of time in substantial quantities and whether such prices permitted the recovery of all costs within a reasonable period of time. We compared model-specific COPs to the reported home-market prices less any applicable movement charges, discounts, and rebates.

Pursuant to section 773(b)(2)(C) of the Act, when less than 20 percent of a respondent's sales of a given product were at prices less than the COP, we did not disregard any below-cost sales of that product because the below-cost sales were not made in substantial quantities within an extended period of time. When 20 percent or more of a respondent's sales of a given product during the period of review were at prices less than the COP, we disregarded the below-cost sales because they were made in substantial quantities within an extended period of time pursuant to sections 773(b)(2)(B) and (C) of the Act and because, based on comparisons of prices to weighted-average COPs for the period of review, we determined that these sales were at prices which would not permit recovery of all costs within a reasonable period of time in accordance with section 773(b)(2)(D) of the Act. See the analysis memoranda for SKF France, SKF Italy, SKF UK, GRW, Schaeffler KG, and Barden/Schaeffler UK dated April 21, 2009. Based on this test, we disregarded below-cost sales with respect to SKF France, SKF Italy, SKF UK, GRW, Schaeffler KG, and Barden/Schaeffler UK.

Model-Match Methodology

For all respondents, where possible, we compared U.S. sales with sales of the foreign like product in the home market. Specifically, in making our comparisons, if an identical home-market model was reported, we made comparisons to weighted-average home-market prices that were based on all sales which passed the COP test of the identical product during the relevant month. We calculated the weighted-average home-market prices on a level of trade-specific basis. If there were no contemporaneous sales of an identical model, we identified the most similar home-market model.

To determine the most similar model, we limited our examination to models sold in the home market that had the same bearing design, load direction, number of rows, and precision grade. Next, we calculated the sum of the deviations (expressed as a percentage of the value of the U.S. model's characteristics) of the inner diameter, outer diameter, width, and load rating for each potential home-market match and selected the bearing with the smallest sum of the deviations. If two or more bearings had the same sum of the deviations, we selected the model that was sold at the same level of trade as the U.S. sale and was the closest contemporaneous sale to the U.S. sale. If two or more models were sold at the same level of trade and were sold equally contemporaneously, we selected the model with the smallest difference-in-merchandise adjustment.

Finally, if no bearing sold in the home market had a sum of the deviations that was less than 40 percent, we concluded that no appropriate comparison existed in the home market and we used the constructed value of the U.S. model as normal value. For a full discussion of the model-match methodology for these reviews, see Ball Bearings and Parts Thereof from France, et al.: Final Results of Antidumping Duty Administrative Reviews, 70 FR 54711 (September 16, 2005), and accompanying Issues and Decision Memorandum at Comments 2, 3, and 5 and Antifriction Bearings and Parts Thereof from France, et al.: Preliminary Results and Partial Rescission of Antidumping Duty Administrative Reviews, 70 FR 25538, 25542 (May 13, 2005).

Normal Value

Home-market prices were based on the packed, ex-factory, or delivered prices to affiliated or unaffiliated purchasers. When applicable, we made adjustments for differences in packing and for movement expenses in accordance with sections 773(a)(6)(A) and (B) of the Act. Where companies received freight or packing revenues from the home-market customer, we offset these expenses in accordance with OJ Brazil and PRC Bags as discussed above. We also made adjustments for differences in cost attributable to differences in physical characteristics of the merchandise pursuant to section 773(a)(6)(C)(ii) of the Act and 19 CFR 351.411 and for differences in circumstances of sale in accordance with section 773(a)(6)(C)(iii) of the Act and 19 CFR 351.410. For comparisons to EP, we made circumstance-of-sale adjustments by deducting home-market direct selling expenses from, and adding U.S. direct selling expenses to, normal value. For comparisons to CEP, we made circumstance-of-sale adjustments by deducting home-market direct selling expenses from normal value. We also made adjustments, when applicable, for home-market indirect selling expenses to offset U.S. commissions in EP and CEP calculations.

In accordance with section 773(a)(1)(B)(i) of the Act, we based normal value, to the extent practicable, on sales at the same level of trade as the EP or CEP. If normal value was calculated at a different level of trade, we made an adjustment, if appropriate and if possible, in accordance with section 773(a)(7)(A) of the Act. See Level of Trade section below.

Constructed Value

In accordance with section 773(a)(4) of the Act, we used constructed value as the basis for normal value when there were no usable sales of the foreign like product in the comparison market. We calculated constructed value in accordance with section 773(e) of the Act. We included the cost of materials and fabrication, SG&A expenses, U.S. packing expenses, and profit in the calculation of constructed value. In accordance with section 773(e)(2)(A) of the Act, we based SG&A expenses and profit on the amounts incurred and realized by each respondent in connection with the production and sale of the foreign like product in the ordinary course of trade for consumption in the home market.

When appropriate, we made adjustments to constructed value in accordance with section 773(a)(8) of the Act, 19 CFR 351.410, and 19 CFR 351.412 for circumstance-of-sale differences and level-of-trade differences. For comparisons to EP, we made circumstance-of-sale adjustments by deducting home-market direct selling expenses from and adding U.S. direct selling expenses to constructed value. For comparisons to CEP, we made circumstance-of-sale adjustments by deducting home-market direct selling expenses from constructed value. We also made adjustments, when applicable, for home-market indirect selling expenses to offset U.S. commissions in EP and CEP comparisons.

When possible, we calculated constructed value at the same level of trade as the EP or CEP. If constructed value was calculated at a different level of trade, we made an adjustment, if appropriate and if possible, in accordance with sections 773(a)(7) and (8) of the Act.

Level of Trade

To the extent practicable, we determined normal value for sales at the same level of trade as the U.S. sales (either EP or CEP). When there were no sales at the same level of trade, we compared U.S. sales to home-market sales at a different level of trade. The normal-value level of trade is that of the starting-price sales in the home market. When normal value is based on constructed value, the level of trade is that of the sales from which we derived SG&A and profit.

To determine whether home-market sales are at a different level of trade than U.S. sales, we examined stages in the marketing process and selling functions along the chain of distribution between the producer and the unaffiliated customer. If the comparison-market sales were at a different level of trade from that of a U.S. sale and the difference affected price comparability, as manifested in a pattern of consistent price differences between the sales on which normal value is based and comparison-market sales at the level of trade of the export transaction, we made a level-of-trade adjustment under section 773(a)(7)(A) of the Act. See, e.g., Notice of Final Determination of Sales at Less Than Fair Value: Certain Cut-to-Length Carbon Steel Plate From South Africa, 62 FR 61731, 61732 (November 19, 1997).

Where the respondent reported no home-market levels of trade that were equivalent to the CEP level of trade and where the CEP level of trade was at a less advanced stage than any of the home-market levels of trade, we were unable to calculate a level-of-trade adjustment based on the respondent's home-market sales of the foreign like product. Furthermore, we have no other information that provides an appropriate basis for determining a level-of-trade adjustment. For respondents' CEP sales, to the extent possible, we determined normal value at the same level of trade as the U.S. sale to the first unaffiliated customer and made a CEP-offset adjustment in accordance with section 773(a)(7)(B) of the Act. The CEP-offset adjustment to normal value was subject to the so-called “offset cap,” calculated as the sum of home-market indirect selling expenses up to the amount of U.S. indirect selling expenses deducted from CEP (or, if there were no home-market commissions, the sum of U.S. indirect selling expenses and U.S. commissions).

For a company-specific description of our level-of-trade analyses for these preliminary results, see Memorandum to Laurie Parkhill, dated April 21, 2009, entitled “Ball Bearings and Parts There of from Various Countries: 2007/2008 Level-of-Trade Analysis,” on file in the CRU, room 1117.

Preliminary Results of Reviews

As a result of our reviews, we preliminarily determine that the following percentage weighted-average dumping margins on ball bearings and parts thereof from various countries exist for the period May 1, 2007, through April 30, 2008:

Company | Margin (percent)
France
SKF France | 10.13
Edwards Ltd. and Edwards High Vacuum Int'l Ltd | 10.13
Germany
GRW | 0.10
Schaeffler KG | 3.32
myonic | 70.41
RWG Frankenjura Industrie Aircraft Bearings GmbH | 3.32
SKF GmbH | 3.32
Edwards Ltd. and Edwards High Vacuum Int'l Ltd | 3.32
Italy
SKF Italy | 10.94
Schaeffler Italia S.r.L. (formerly FAG Italia S.p.A.) | 10.94
Japan
Edwards Ltd. and Edwards High Vacuum Int'l Ltd | 73.55
JAEC | 0.00
Sapporo | 6.65
United Kingdom
Barden/Schaeffler UK | 0.14
SKF UK | 18.27

Comments

We will disclose the calculations used in our analysis to parties to these reviews within five days of the date of publication of this notice. See 19 CFR 351.224(b). Any interested party may request a hearing within 30 days of the date of publication of this notice. See 19 CFR 351.310(c). A general-issues hearing, if requested, and any hearings regarding issues related solely to specific countries, if requested, will be held at the main Department building at times and locations to be determined.

Interested parties who wish to request a hearing or to participate if one is requested must submit a written request to the Assistant Secretary for Import Administration within 30 days of the date of publication of this notice. See 19 CFR 351.310(c). Requests should contain the following: (1) The party's name, address, and telephone number; (2) the number of participants; (3) a list of issues to be discussed.

Issues raised in hearings will be limited to those raised in the respective case briefs. Case briefs from interested parties and rebuttal briefs, limited to the issues raised in the respective case briefs, may be submitted not later than the following dates:

Case | Briefs due ¹ | Rebuttals due
France | May 27, 2009 | June 3, 2009.
Germany | May 28, 2009 | June 4, 2009.
Italy | May 29, 2009 | June 5, 2009.
Japan | June 4, 2009 | June 11, 2009.
United Kingdom | June 5, 2009 | June 12, 2009.
General Issues | June 8, 2009 | June 15, 2009.
¹ If verification reports for pending verifications involving the administrative reviews of Japan and the United Kingdom are issued later than seven days prior to the dates indicated, then the case brief will be due seven days after release of the verification report and the rebuttal brief will be due seven days after the due date for the case brief. The case brief for General Issues will be due the first business day after the last country-specific case brief is due and the rebuttal brief for General Issues will be due seven days thereafter.

Parties who submit case briefs or rebuttal briefs in these proceedings are requested to submit with each argument (1) a statement of the issue and (2) a brief summary of the argument. Parties are also encouraged to provide a summary of the arguments not to exceed five pages and a table of statutes, regulations, and cases cited.

The Department intends to issue the final results of these administrative reviews, including the results of its analysis of issues raised in any such written briefs or at the hearings, if held, within 120 days of the date of publication of this notice.

Assessment Rates

The Department shall determine, and CBP shall assess, antidumping duties on all appropriate entries. In accordance with 19 CFR 351.212(b)(1), we have calculated, whenever possible, an exporter/importer (or customer)-specific assessment rate or value for merchandise subject to these reviews as described below. We intend to issue liquidation instructions to CBP 15 days after publication of the final results of these reviews.

The Department clarified its “automatic assessment” regulation on May 6, 2003. See Antidumping and Countervailing Duty Proceedings: Assessment of Antidumping Duties, 68 FR 23954 (May 6, 2003) (Assessment of Antidumping Duties). This clarification will apply to entries of subject merchandise during the period of review produced by companies selected for individual examination in these preliminary results of reviews for which the reviewed companies did not know their merchandise was destined for the United States. In such instances, we will instruct CBP to liquidate unreviewed entries at the country-specific all-others rate if there is no rate for the intermediate company(ies) involved in the transaction. For a full discussion of this clarification, see Assessment of Antidumping Duties.

For the responsive companies which were not selected for individual examination, we will instruct CBP to apply the rates listed above to all entries of subject merchandise produced and/or exported by such firms.

For companies for which we are relying on total AFA to establish a dumping margin, we will instruct CBP to apply the assigned AFA rate to all entries of subject merchandise during the period of review produced and/or exported by the companies.

Export-Price Sales

With respect to EP sales, for these preliminary results, we divided the total dumping margins (calculated as the difference between normal value and EP) for each exporter's importer or customer by the total number of units the exporter sold to that importer or customer. We will direct CBP to assess the resulting per-unit dollar amount against each unit of merchandise in each of that importer's/customer's entries under the relevant order during the review period.

Constructed Export-Price Sales

For CEP sales (sampled and non-sampled), we divided the total dumping margins for the reviewed sales by the total entered value of those reviewed sales for each importer. We will direct CBP to assess the resulting percentage margin against the entered customs values for the subject merchandise on each of that importer's entries under the relevant order during the review period. See 19 CFR 351.212(b).

Cash-Deposit Requirements

In order to derive a single weighted-average margin for each respondent, we weight-averaged the EP and CEP weighted-average deposit rates (using the EP and CEP, respectively, as the weighting factors). To accomplish this when we sampled CEP sales, we first calculated the total dumping margins for all CEP sales during the review period by multiplying the sample CEP margins by the ratio of total days in the review period to days in the sample weeks. We then calculated a total net value for all CEP sales during the review period by multiplying the sample CEP total net value by the same ratio. Finally, we divided the combined total dumping margins for both EP and CEP sales by the combined total value for both EP and CEP sales to obtain the deposit rate.

The following deposit requirements will be effective upon publication of the notice of final results of administrative reviews for all shipments of subject merchandise entered, or withdrawn from warehouse, for consumption on or after the date of publication, as provided by section 751(a)(1) of the Act: (1) The cash-deposit rates for the reviewed companies will be the rates established in the final results of the reviews; (2) for previously reviewed or investigated companies not listed above, the cash-deposit rate will continue to be the company-specific rate published for the most recent period; (3) if the exporter is not a firm covered in these reviews, a prior review, or the less-than-fair-value investigations but the manufacturer is, the cash-deposit rate will be the rate established for the most recent period for the manufacturer of the merchandise; (4) the cash-deposit rate for all other manufacturers or exporters will continue to be the all-others rate for the relevant order made effective by the final results of reviews published on July 26, 1993. See Final Results of Antidumping Duty Administrative Reviews and Revocation in Part of an Antidumping Duty Order, 58 FR 39729 (July 26, 1993). For ball bearings from Italy, see Antifriction Bearings (Other Than Tapered Roller Bearings) and Parts Thereof From France, et al.; Final Results of Antidumping Administrative Reviews and Partial Termination of Administrative Reviews, 61 FR 66472, 66521 (December 17, 1996). These rates are the all-others rates from the relevant less-than-fair-value investigations. These deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

These preliminary results of administrative reviews and intent to revoke in part are issued and published in accordance with sections 751(a)(1) and 777(i)(1) of the Act.

Dated: April 21, 2009.
Ronald K. Lorentzen,
Acting Assistant Secretary for Import Administration.

[FR Doc. E9-9588 Filed 4-24-09; 8:45 am]

BILLING CODE 3510-DS-P